DEPARTMENT OF DEFENSE

Department of the Navy

Public Meeting on the Draft Environmental Impact Statement for a Tertiary Treatment Plant and Associated Facilities at Marine Corps Base Camp Pendleton, CA

AGENCY: Department of the Navy, DOD.

ACTION: Announcement of public meeting.

SUMMARY: Pursuant to the National Environmental Policy Act as implemented by the Council on Environmental Quality Regulations (40 CFR parts 1500-1508), the Department of the Navy has prepared a Draft Environmental Impact Statement (DEIS) for construction and operation of a tertiary treatment plant (TTP) and associated facilities at Marine Corps Base (MCB) Camp Pendleton, CA. A public meeting will be held in order to collect public comments. This meeting will be conducted in an open house format and participants may attend a portion or the entire meeting.

DATES: The public meeting will be held on Thursday, November 13, 2003, from 6 p.m. to 9 p.m. at the Oceanside Civic Center Library and Community Rooms, 330 North Coast Highway, Oceanside, CA. All written comments regarding the DEIS must be postmarked by November 24, 2003.

ADDRESSES: Direct comments to Commander, Southwest Division, Naval Facilities Engineering Command, Code 5CPR.15 (Attn: Ms. Lisa Seneca), 937 North Harbor Drive, San Diego, CA 92132.

FOR FURTHER INFORMATION CONTACT: Ms. Lisa Seneca, telephone (619) 532-4744, fax (619) 532-4160.

SUPPLEMENTARY INFORMATION: The proposed action involves the consolidation of four sewage treatment plants (STPs) at MCB Camp Pendleton into a single TTP. This would include the construction and operation of a TTP; a conveyance system to transport wastewater from tributary areas of current STPs 1, 2, 3, and 13 to the TTP (which would be located at the site of existing STP 13); a wastewater reclamation system to convey tertiary-treated water to reuse points; the demolition of existing STPs 1, 2, 3, 8, and 13; and relocation of the existing Recycling Center. Five alternatives, including the no-action alternative, are evaluated in this DEIS.

This DEIS evaluates the potential environmental impacts to the following resource areas: land use, air quality, geological resources, biological resources, cultural resources, water resources, environmental justice, utilities and infrastructure, and safety and environmental health. Potentially significant but mitigable impacts associated with the proposed action and alternatives have been identified for biological, cultural, and water resources. Implementation of the no-action alternative would result in significant impacts to water resources.

The DEIS has been distributed to various Federal, State and local agencies, elected officials, and interested groups and individuals. The DEIS is also available for public review at the following libraries:

—Carlsbad City Library—1775 Dove Lane, Carlsbad, CA.

—Del Mar Branch Library—1309 Camino Del Mar, Del Mar, CA.

—City Heights/Weingart Library—3795 Fairmount Ave, San Diego, CA.

—Fallbrook Branch Library—124 South Mission Road, Fallbrook, CA.

—Oceanside Public Library—330 North Coast Highway, Oceanside, CA.

—San Clemente Library—242 Avenida Del Mar, San Clemente, CA.

—San Diego Central Library—820 East St, San Diego, CA.

Dated: October 27, 2003.
S.K. Melancon,
Paralegal Specialist, Office of the Judge Advocate General, Alternate Federal Register Liaison Officer.

[FR Doc. 03-27411 Filed 10-30-03; 8:45 am]

BILLING CODE 3810-FF-P